DEPARTMENT OF THE INTERIOR

Bureau of Land Management

[212L1109AF LLNMA01000 L12200000.PM0000 241A]

Second Call for Nominations for the Rio Puerco Management Committee, New Mexico

AGENCY: Bureau of Land Management, Interior.

ACTION: Notice.

SUMMARY: The purpose of this notice is to request a second call for public nominations for members to the Bureau of Land Management's (BLM) Rio Puerco Management Committee (Committee).

DATES: A completed nomination form and accompanying nomination/recommendation letters must be received by December 7, 2020.

ADDRESSES: Send nominations to Mark Matthews, BLM acting Albuquerque District Manager, 100 Sun Blvd. NE, Suite 330, Albuquerque, NM 87109, Attention: Rio Puerco Management Committee Nominations.

FOR FURTHER INFORMATION CONTACT: Contact Allison Sandoval, Public Affairs Specialist, BLM New Mexico State Office, 301 Dinosaur Trail, Santa Fe, NM 87508, phone (505) 954-2019, or email aesandoval@blm.gov. Persons who use a telecommunications device for the deaf (TDD) may call the Federal Relay Service (FRS) at 1-800-877-8229, to contact the above individual during normal business hours. The FRS is available 24 hours a day, 7 days a week, to leave a message or question with the above individual. You will receive a reply during normal business hours.

SUPPLEMENTARY INFORMATION: Omnibus Parks and Public Lands Management Act, Section 401, reauthorized through the John D. Dingell, Jr. Conservation, Management, and Recreation Act, Section 1122, directs the Secretary of the Interior to establish the Committee. The Committee will be regulated by the Federal Advisory Committee Act (FACA) (5 U.S.C. Appendix 2) and section 309 of the Federal Land Policy and Management Act (FLPMA). The BLM rules governing advisory committees are found at 43 CFR subpart 1784.

The Committee shall advise the Secretary, acting through the Director of the BLM, on the development and implementation of the Rio Puerco Management Program and serve as a forum for information about activities that may affect or further the development and implementation of the best management practices. The Committee shall be convened by a representative of the Bureau of Land Management and shall include representatives from:

(1) The Rio Puerco Watershed Committee;

(2) affected tribes and pueblos;

(3) the United States Forest Service of the Department of Agriculture;

(4) the Bureau of Reclamation;

(5) the United States Geological Survey;

(6) the Bureau of Indian Affairs;

(7) the United States Fish and Wildlife Service;

(8) the Army Corps of Engineers;

(9) the Environmental Protection Agency;

(10) the Natural Resources Conservation Service of the Department of Agriculture;

(11) the State of New Mexico, including the New Mexico Environment Department of the State Engineer;

(12) affected local soil and water conservation districts;

(13) the Elephant Butte Irrigation District;

(14) private landowners; and

(15) other interested citizens.

Members will be appointed by the Secretary to staggered 3-year terms.

Nominating Potential Members: Nomination forms may be obtained from the Rio Puerco Field Office (address listed above) or https://www.blm.gov/get-involved/resource-advisory-council/near-you/New-Mexico. All nominations must include a completed Resource Advisory Council application (OMB Control No. 1004-0204), letters of reference from the represented interests or organizations, and any other information that speaks to the candidate's qualifications. The specific category the nominee would be representing should be identified in the letter of nomination and on the application form.

Non-Federal members of the Committee serve without compensation. However, while away from their homes or regular places of business, Committee and subcommittee members engaged in Committee or subcommittee business may be allowed travel expenses, including per diem in lieu of subsistence, as authorized by 5 U.S.C. 5703, in the same manner as persons employed intermittently in Federal Government service. The Committee shall meet approximately two to four times annually, and at such other times as determined by the Designated Federal Officer.

Certification Statement: I hereby certify that the Rio Puerco Management Committee is necessary and is in the public interest in connection with the performance of duties pursuant to the Department of the Interior's authority under the Omnibus Parks and Public Lands Management Act, the Omnibus Public Land Management Act of 2009, and the John D. Dingell, Jr. Conservation, Management, and Recreation Act.

Authority: 43 CFR 1784.4-1.

Mark Matthews,
Acting Albuquerque District Manager.

[FR Doc. 2020-24757 Filed 11-5-20; 8:45 am]

BILLING CODE 4310-FB-P